DEPARTMENT OF TRANSPORTATION

Federal Aviation Administration

14 CFR Part 39

[Docket No. FAA-2012-0675; Directorate Identifier 2012-NM-120-AD; Amendment 39-17131; AD 2012-13-51]

RIN 2120-AA64

Airworthiness Directives; Gulfstream Aerospace LP (Type Certificate Previously Held by Israel Aircraft Industries, Ltd.) Airplanes

AGENCY: Federal Aviation Administration (FAA), DOT.

ACTION: Final rule; request for comments.

SUMMARY: We are adopting a new airworthiness directive (AD) for certain Gulfstream Aerospace LP (Type Certificate previously held by Israel Aircraft Industries, Ltd.) Model Gulfstream G150 airplanes. This emergency AD was sent previously to all known U.S. owners and operators of these airplanes. This AD requires a one-time detailed or borescope inspection of the left- and right-hand inboard vent holes for debris or obstructions, and repair if necessary. This AD was prompted by a report indicating that an inboard vent tube hole was completely covered with sealant, which blocked airflow through the vent. Under these conditions, the rise of internal pressure during pressure fueling or due to thermal expansion is sufficient to damage the wing. We are issuing this AD to detect and correct compromised integrity of the wing structure.

DATES: This AD is effective August 13, 2012 to all persons except those persons to whom it was made immediately effective by emergency AD 2012-13-51, issued on June 26, 2012, which contained the requirements of this amendment.

The Director of the Federal Register approved the incorporation by reference of a certain publication identified in the AD as of August 13, 2012.

We must receive comments on this AD by September 10, 2012.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this AD, contact Gulfstream Aerospace Corporation, P.O. Box 2206, Mail Station D-25, Savannah, Georgia 31402-2206; telephone 800-810-4853; fax 912-965-3520; email pubs@gulfstream.com; Internet http://www.gulfstream.com/product_support/technical_pubs/pubs/index.htm.

Examining the AD Docket

You may examine the AD docket on the Internet at http://www.regulations.gov; or in person at the Docket Operations Office between 9 a.m. and 5 p.m., Monday through Friday, except Federal holidays. The AD docket contains this AD, the regulatory evaluation, any comments received, and other information. The street address for the Docket Operations Office (phone: 800-647-5527) is in the ADDRESSES section. Comments will be available in the AD docket shortly after receipt.

FOR FURTHER INFORMATION CONTACT: Tom Groves, Aerospace Engineer, International Branch, ANM-116, Transport Airplane Directorate, FAA, 1601 Lind Avenue SW., Renton, Washington 98057-3356; phone: 425-227-1503; fax: 425-227-1149; email: tom.groves@faa.gov.

SUPPLEMENTARY INFORMATION:

Discussion

On June 26, 2012, we issued emergency AD 2012-13-51, which requires a one-time detailed or borescope inspection of the left- and right-hand inboard vent holes for debris or obstructions, and repair if necessary. Emergency AD 2012-13-51 also requires reporting positive inspection findings to the manufacturer. This action was prompted by a report from the Civil Aviation Authority of Israel (CAAI), which is the airworthiness authority for Israel, indicating that an unsafe condition may exist on Gulfstream Aerospace LP Model Gulfstream G150 airplanes. The CAAI advises that fasteners protruding from the lower wing surface were discovered during a post-flight inspection. Investigation revealed structural damage to (and separation of) ribs from wing planks.

Further inspection showed that the inboard vent tube hole was completely covered with sealant, which blocked airflow through the vent. This condition was also found on some airplanes in production. Under these conditions, the rise of internal pressure during pressure fueling or due to thermal expansion is sufficient to damage the wing. This condition, if not detected and corrected, could compromise the integrity of the wing structure.

Relevant Service Information

Gulfstream Aerospace LP has issued Gulfstream G150 Alert Service Bulletin 150-28A-146, dated June 22, 2012. The service information describes procedures for a one-time detailed or borescope inspection of the left- and right-hand inboard vent holes for debris and obstructions. The service information specifies to contact the manufacturer if any debris or obstruction is found. The CAAI mandated this service bulletin and issued Emergency Airworthiness Directive 28-12-06-18, dated June 24, 2012 (referred to after this as “the MCAI”), to ensure the continued airworthiness of these airplanes in Israel.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined an unsafe condition exists and is likely to exist or develop on other products of the same type design.

Since the unsafe condition described is likely to exist or develop on other airplanes of the same type design, we issued emergency AD 2012-13-51 to detect and correct compromised integrity of the wing structure. The AD requires a one-time detailed or borescope inspection of the left- and right-hand inboard vent holes for debris or obstructions, and repair if necessary. The AD also requires reporting positive inspection findings to the manufacturer.

We found that immediate corrective action was required; therefore, notice and opportunity for prior public comment thereon were impracticable and contrary to the public interest, and good cause existed to make the AD effective immediately by individual notices issued on June 26, 2012, to all known U.S. owners and operators of Gulfstream Aerospace LP (Type Certificate previously held by Israel Aircraft Industries, Ltd.) Model Gulfstream G150 airplanes. These conditions still exist, and the AD is hereby published in the Federal Register as an amendment to section 39.13 of the Federal Aviation Regulations (14 CFR 39.13) to make it effective to all persons.

Interim Action

We consider this AD interim action. We may consider further rulemaking when additional information is available.

FAA's Determination of the Effective Date

An unsafe condition exists that requires the immediate adoption of this AD. The FAA has found that the risk to the flying public justifies waiving notice and comment prior to adoption of this rule because we received a report indicating that an inboard vent tube hole was completely covered with sealant, which blocked airflow through the vent. Under these conditions, the rise of internal pressure during pressure fueling or due to thermal expansion is sufficient to damage the wing. We are issuing this AD to detect and correct compromised integrity of the wing structure. Therefore, we find that notice and opportunity for prior public comment are impracticable and that good cause exists for making this amendment effective in less than 30 days.

Comments Invited

This AD is a final rule that involves requirements affecting flight safety and was not preceded by notice and an opportunity for public comment. However, we invite you to send any written data, views, or arguments about this AD. Send your comments to an address listed under the ADDRESSES section. Include the docket number FAA-2012-0675 and Directorate Identifier 2012-NM-120-AD at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 58 airplanes of U.S. registry.

We estimate the following costs to comply with this AD:

Estimated Costs
Action | Labor cost | Parts cost | Cost per product | Cost on U.S. operators
Inspection | Up to 18 work-hours × $85 per hour = up to $1,530 | $0 | Up to $1,530 | Up to $88,740.

We have received no definitive data that would enable us to provide cost estimates for the on-condition actions specified in this AD.

Authority for This Rulemaking

Title 49 of the United States Code specifies the FAA's authority to issue rules on aviation safety. Subtitle I, section 106, describes the authority of the FAA Administrator. Subtitle VII: Aviation Programs describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2012-13-51 Gulfstream Aerospace LP (Type Certificate Previously Held by Israel Aircraft Industries, Ltd.): Amendment 39-17131; Docket No. FAA-2012-0675; Directorate Identifier 2012-NM-120-AD.

(a) Effective Date

This AD is effective August 13, 2012 to all persons except those persons to whom it was made immediately effective by emergency AD 2012-13-51, issued on June 26, 2012, which contained the requirements of this amendment.

(b) Affected ADs

None.

(c) Applicability

This AD applies to Gulfstream Aerospace LP (Type Certificate previously held by Israel Aircraft Industries, Ltd.) Model Gulfstream G150 airplanes, certificated in any category, serial numbers 201 through 290 inclusive.

(d) Subject

Joint Aircraft System Component (JASC)/Air Transport Association (ATA) of America Code 28: Fuel.

(e) Unsafe Condition

This AD was prompted by a report indicating that an inboard vent tube hole was completely covered with sealant, which blocked airflow through the vent. Under these conditions, the rise of internal pressure during pressure fueling or due to thermal expansion is sufficient to damage the wing. We are issuing this AD to detect and correct compromised integrity of the wing structure.

(f) Compliance

Comply with this AD within the compliance times specified, unless already done.

(g) Inspection and Repair

Before further flight: Do a one-time detailed or borescope inspection of the left- and right-hand inboard vent holes for debris and obstructions, in accordance with the Accomplishment Instructions of Gulfstream G150 Alert Service Bulletin 150-28A-146, dated June 22, 2012. If any debris or obstruction is found, before further flight, repair in accordance with a method approved by either the Manager, International Branch, ANM-116, Transport Airplane Directorate, FAA; or the Civil Aviation Authority of Israel (CAAI) (or its delegated agent).

(h) Reporting Requirement

(1) Submit a report of positive findings of the inspection required by paragraph (g) of this AD to Gulfstream Aerospace CMP, fax 800-944-1775 or 912-963-0265, at the applicable time specified in paragraph (h)(1)(i) or (h)(1)(ii) of this AD. The report must include the inspection date and results, a description of any finding, the airplane serial number, and the number of flight hours and landings on the airplane.

(i) If the inspection was done on or after the effective date of this AD: Submit the report within 10 days after the inspection.

(ii) If the inspection was done before the effective date of this AD: Submit the report within 10 days after the effective date of this AD.

(2) A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(i) Alternative Methods of Compliance (AMOCs)

(1) The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the manager of the International Branch, send it to the attention of the person identified in the Related Information section of this AD. Information may be emailed to: 9-ANM-116-AMOC-REQUESTS@faa.gov.

(2) Before using any approved AMOC, notify your appropriate principal inspector, or lacking a principal inspector, the manager of the local flight standards district office/certificate holding district office. The AMOC approval letter must specifically reference this AD.

(j) Special Flight Permit

Special flight permits, as described in Section 21.197 and Section 21.199 of the Federal Aviation Regulations (14 CFR 21.197 and 21.199), are allowed provided the criteria in this paragraph are met. A general visual inspection must be done to detect fuel leaks, skin distortion, protruding fasteners, and loose fasteners of the left- and right-hand lower wing skins. A special flight permit is not allowed if there is any finding from the inspection. If there are no findings from the inspection, a special flight permit is allowed, provided the total wing tank fuel quantity of the airplane (i.e., total of both wing tanks) is limited to 3,500 pounds or less.

(k) Related Information

(1) For further information about this AD, contact Tom Groves, Aerospace Engineer, International Branch, ANM-116, Transport Airplane Directorate, FAA, 1601 Lind Avenue SW., Renton, Washington 98057-3356; phone: 425-227-1503; fax: 425 227-1149; email: tom.groves@faa.gov.

(2) Refer to MCAI Israeli Emergency Airworthiness Directive 28-12-06-18, dated June 24, 2012; and Gulfstream G150 Alert Service Bulletin 150-28A-146, dated June 22, 2012; for related information.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Gulfstream G150 Alert Service Bulletin 150-28A-146, dated June 22, 2012.

(ii) Reserved.

(3) For service information identified in this AD, contact Gulfstream Aerospace Corporation, P.O. Box 2206, Mail Station D-25, Savannah, Georgia 31402-2206; telephone 800-810-4853; fax 912-965-3520; email pubs@gulfstream.com; Internet http://www.gulfstream.com/product_support/technical_pubs/pubs/index.htm.

(4) You may review copies of the service information at the FAA, Transport Airplane Directorate, 1601 Lind Avenue SW., Renton, WA. For information on the availability of this material at the FAA, call 425-227-1221.

(5) You may also review copies of the service information that is incorporated by reference at the National Archives and Records Administration (NARA). For information on the availability of this material at an NARA facility, call 202-741-6030, or go to http://www.archives.gov/federal_register/code_of_federal_regulations/ibr_locations.html.

Issued in Renton, Washington, on July 13, 2012.
Michael Kaszycki,
Acting Manager, Transport Airplane Directorate, Aircraft Certification Service.

[FR Doc. 2012-17955 Filed 7-26-12; 8:45 am]

BILLING CODE 4910-13-P